FEDERAL COMMUNICATIONS COMMISSION

[DA 05-549]

Members of Consumer Advisory Committee Named; Announcement of Date and Agenda of First Meeting and Future 2005 Meeting Dates

AGENCY: Federal Communications Commission.

ACTION: Notice.

SUMMARY: This document announces the appointment of members to the Consumer Advisory Committee (“Committee”) of the Federal Communications Commission (“Commission”). The Commission further announces the date and agenda of the Committee's first meeting as well as future meeting dates in calendar year 2005.

DATES: The first meeting of the Committee will take place on Friday, April 29, 2005, 9 a.m. to 4 p.m.

ADDRESSES: Federal Communications Commission, 445 12th Street, NW., Washington, DC 20554.

FOR FURTHER INFORMATION CONTACT: Scott Marshall, Consumer & Governmental Affairs Bureau, (202) 418-2809 (voice), (202) 418-0179 (TTY), or e-mail scott.marshal@fcc.gov.

SUPPLEMENTARY INFORMATION: On December 14, 2004, the Commission issued a public notice announcing the re-chartering of the Committee and solicited applications for membership (see DA 04-3892), as subsequently published in the Federal Register at 69 FR 78024, December 29, 2004. By public notice dated and released March 8, 2005 (DA 05-549), the Commission announced the appointment of members to its Consumer Advisory Committee and further announced the agenda, date and time of the committee's first meeting in 2005. Additional meeting dates in 2005 were also announced. To request materials in accessible formats for people with disabilities (Braille, large print, electronic files, audio format), send an e-mail to fcc504@fcc.gov or call the Consumer & Governmental Affairs Bureau at 202-418-0530 (voice), 202-418-0432 (TTY).

Functions

The purpose of the Committee is to make recommendations to the Commission regarding consumer issues within the jurisdiction of the Commission and to facilitate the participation of consumers (including people with disabilities and underserved populations, such as Native Americans and persons living in rural areas) in proceedings before the Commission.

During its two (2) year term, the Committee will address a number of topics including, but not limited to, the following areas:

Consumer protection and education (e.g., cramming, slamming, consumer friendly billing, detariffing, bundling of services, Lifeline/Linkup programs, customer service, privacy, telemarketing abuses, and outreach to underserved populations, such as American Indians and persons living in rural areas);

Access by people with disabilities (e.g., telecommunications relay services, closed captioning, accessible billing, and access to telecommunications products and services);

Impact upon consumers of new and emerging technologies (e.g., availability of broadband, digital television, cable, satellite, low power FM, and the convergence of these and emerging technologies); and Implementation of Commission rules and consumer participation in the FCC rulemaking process.

Members

The Commission received seventy (70) applications for membership on the Committee, from twenty-three (23) states and the District of Columbia. After a careful review of these applications, thirty-five (35) members were appointed to the Committee. Of this number, nine (9) members represent consumer interests; ten (10) members represent disability interests; two (2) members represent the interests of state regulators, two (2) members represent tribal interests and eleven (11) members represent industry interests. In addition, one (1) individual has been selected to serve based upon his expertise in telecommunications law and policy. The Committee's slate is designed to be representative of the Commission's many constituencies, and the expertise and diversity selected will provide a balanced point of view as required by the Federal Advisory Committee Act. In addition, Chairman Michael K. Powell has appointed Shirley L. Rooker, President, Call For Action, as the Committee's Chairperson and Commissioner Charles Davidson, Florida Public Service Commission, as the Committee's Vice Chairperson. All appointments are effective immediately and shall terminate November 19, 2006, or when the committee is terminated, whichever is earlier.

The roster of the Committee, as appointed by Chairman Powell, is as follows:

1. AARP, Debra Berlyn;

2. Affiliated Tribes of NW Indians, John F. Stensgar;

3. Alliance for Public Technology, Daniel Phythyon;

4. Benton Foundation, Charles Benton;

5. Brugger Consulting, David Brugger;

6. Call For Action, Shirley L. Rooker (CAC Chairperson);

7. Cellular Telecommunications and Internet Association, Carolyn Brandon;

8. Community Broadcasters Association, Louis A. Zanoni;

9. Community Technology Foundation of California, Laura Efurd;

10. Consumer Electronics Association, Julie M. Kearney;

11. Consumers First, Inc., Jim Conran;

12. Deaf and Hard of Hearing Consumer Action Network, Claude Stout;

13. Florida Public Service Commission, Commissioner Charles Davidson (CAC Vice Chairperson);

14. Georgia Centers for Advanced Telecommunications Technology, Helena Mitchell;

15. Hamilton Telephone Company, d/b/a Hamilton Relay Service, Dixie Ziegler;

16. Ideal Group, Inc., Steve Jacobs;

17. Inclusive Technologies, Jim Tobias;

18. International Association of Audio Information Services, George (Mike) Duke;

19. Rebecca Ladew (representing the interests of users of speech-to-speech technology);

20. League for the Hard of Hearing, Joseph Gordon;

21. Media Access Group WGBH, Larry Goldberg;

22. National Association of Broadcasters, Marsha MacBride;

23. National Association of Regulatory Utility Commissioners, Commissioner Ron Jones;

24. National Association of State Relay Administration, Brenda Kelly-Frey;

25. National Association of State Utility Consumer Advocates, Joy M. Ragsdale;

26. National Cable and Telecommunications Association, Loretta P. Polk;

27. National Captioning Institute, Joel Snyder;

28. Nextel Communications, Inc., Kent Y. Nakamura;

29. NYC Wireless, Laura Forlano;

30. Mark Pranger (individual with expertise in telecommunications law and policy);

31. Sprint Corporation, Brent Burpee;

32. Time Warner, Inc., Tom Wlodkowski;

33. T-Mobile, Thomas Sugrue;

34. Verizon Communications, Richard T. Ellis, and

35. Linda Oliver West (representing the interests of the Native American community and other consumers concerned with telecommunications services in rural America).

Meeting Dates

Future meetings of the Committee during calendar year 2005 will take place on Friday, July 15th, and Friday, November 18th, at the same time and location.

At its April 29, 2005 meeting, the Committee will address matters of internal business and organization, including the establishment of working groups, and will consider various consumer issues within the jurisdiction of the Commission. Meetings are open to the public.

The Committee is organized under, and operates in accordance with the provisions of the Federal Advisory Committee Act, 5 U.S.C., App. 2 (1988). Minutes of meetings are available for public inspection at the FCC and are posted on the Commission's Web site at http://www.yfcc.gov/cgb/cac. Meetings are broadcast on the Internet in Real Audio/Real Video format with captioning at http://www.fcc.gov/cgb/cac. Meetings are sign language interpreted with real-time transcription and assistive listening devices available. Meeting agendas and handout materials are provided in accessible formats. The meeting site is accessible to people with disabilities. Members of the public may address the Committee or may send written comments to: Scott Marshall, Designated Federal Officer of the Committee.

Federal Communications Commission.
Jay Keithley,
Acting Chief, Consumer & Governmental Affairs Bureau.

[FR Doc. 05-6319 Filed 3-29-05; 8:45 am]

BILLING CODE 6712-01-P